DEPARTMENT OF AGRICULTURE

Forest Service

Transfer of Land to the Department of Interior

AGENCY: Forest Service, USDA.

ACTION: Notice of land transfer.

SUMMARY: Public Law 108-190 provides for the transfer of approximately 157 acres of National Forest System lands to the administrative jurisdiction of the National Park Service, to be thereafter permanently incorporated in and administered by the Secretary of the Interior as part of the Montezuma Castle National Monument.

DATES: This notice becomes effective April 13, 2010.

FOR FURTHER INFORMATION CONTACT: Louisa Herrera, National Title Program Manager, (202) 205-1255, Lands and Realty Management.

SUPPLEMENTARY INFORMATION: Section 3 of Public Law 108-190 (117 Stat. 2867), authorized the federal acquisition by the Secretary of Agriculture of approximately 157 acres of land depicted on a map dated May 2002, and entitled “Montezuma Castle Contiguous Lands”. Upon acquisition, section 5(e) of Public Law 108-190 provides that the land “shall be transferred to the administrative jurisdiction of the National Park Service, and shall be thereafter permanently incorporated in, and administered by the Secretary of the Interior as part of, the Montezuma Castle National Monument.” (117 Stat. 2870). The Montezuma Castle Contiguous Lands have been acquired for the United States by the Forest Service by deed dated December 6, 2007, and recorded December 10, 2007, in the land records of Yavapai County at Book 4560, Page 216. The lands are described as follows:

Coconino National Forest

Gila and Salt River Meridian, Yavapai County, Arizona

T.14 N., R. 5 E.

Sec. 9, SW ¼, less and excepting Lot 1, containing 3.75 acres, previously conveyed to the United States of America, National Park Service, by warranty deed dated May 16, 1973, and recorded July 18, 1973, Book 852, Page 179 of official records of Yavapai County, Arizona.

The area described contains 156.25 acres, Yavapai County, Arizona.

As provided by Public Law 108-190, and acting pursuant to the authority delegated to the Chief, Forest Service, at Title 7, Code of Federal Regulations, section 2.60(a)(2), these described lands are hereby transferred to the administrative jurisdiction of the National Park Service to be permanently incorporated in, and administered by the Secretary of the Interior.

Dated: April 2, 2010.
Thomas L. Tidwell,
Chief, Forest Service.

[FR Doc. 2010-8377 Filed 4-12-10; 8:45 am]

BILLING CODE 3410-11-P